DEPARTMENT OF AGRICULTURE

Forest Service

Upper West Fork Weiser Vegetation Management Project, Payette National Forest, ID

AGENCY: Forest Service, USDA.

ACTION: Notice of cancellation of an environmental impact statement.

SUMMARY: In 1999, the USDA Forest Service gave notice that it would prepare an environmental impact statement (EIS) on proposed management of timber stands in the West Fork Weiser River project area to improve their health, species diversity, and productivity. The Notice of Intent (NOI) was published in the March 11, 1999 Federal Register (Vol. 64, No. 47, pages 12150-12151). A revised NOI was published in the December 30, 2002 Federal Register (Vol. 67, No. 250, page 79559). Since the initiation of this project, Forest Service management emphasis has changed. Changes have resulted from the National Fire Plan, the Healthy Forest Initiative, the Healthy Forest Restoration Act, as well as the 2003 revised Forest Plan. Therefore, the project is not longer in the planning stages, and the NOI is hereby cancelled.

FOR FURTHER INFORMATION CONTACT: Questions about this cancellation should be directed to Kimberly Brandel, New Meadows District Ranger; or Sylvia Clark, New Meadows District Environmental Coordinator, at PO Box J, New Meadows, Idaho 83654, phone (208) 347-0300 or FAX (208) 347-0309.

Dated: May 20, 2004.
Mark Madrid,
Forest Supervisor, Payette National Forest.

[FR Doc. 04-12052 Filed 5-27-04; 8:45 am]

BILLING CODE 3410-11-M